Title 3—

The President

Proclamation 10906 of March 20, 2025

250th Anniversary of Patrick Henry's “Give Me Liberty, Or Give Me Death!” Speech

By the President of the United States of America

A Proclamation

Our Nation proudly commemorates the 250th anniversary of Patrick Henry's address to the Second Virginia Convention—a seminal moment in our great American story and a fateful turning point in America's epic struggle for Independence.

On March 23, 1775, Patrick Henry rose to the pulpit of St. John's Church in Richmond, Virginia, to speak those immortal words that remain etched upon every American heart: “Give me Liberty, or give me death!”

In the wake of escalating tensions between the Patriots and the Redcoats, Henry delivered this stirring address before more than 100 delegates, including George Washington, Thomas Jefferson, and many of the statesmen who would go on to sign the Declaration of Independence. Following the bloody Boston Massacre and the British Parliament's authoritarian imposition of the Intolerable Acts—which closed the Boston Harbor and stripped New England Colonists of their right to self-govern—American leaders deliberated whether to continue their pursuit of peace, or as a final recourse, to take up arms in the rebellion.

With British tyranny on the rise and American confidence in retreat, the Second Virginia Convention assembled. Patrick Henry, a respected lawyer who had recently served as a delegate to the Continental Congress, arrived at the Convention with one goal in mind: to galvanize militiamen into securing “our inestimable rights and liberties, from those further violations with which they are threatened.”

Some members cautioned against such decisive action, insisting that peaceful reconciliation was still possible, but as Henry listened, he grew more impatient. A Baptist minister who observed the proceedings later recalled that he had “an unearthly fire burning in his eye.” Overcome with righteous indignation, Henry rose from his seat with no notes in hand, boldly beseeching his fellow Virginians: “If we wish to be free . . . we must fight!” At a moment when America's fate hung in the balance, Henry's words sparked daring action in the souls of patriots, fortified the cause of freedom, and set America on the path to ultimate triumph over forces of tyranny and oppression. By a narrow margin, the Second Virginia Convention passed the resolution to form a militia—the first critical step to Independence.

“It is not now easy to say what we should have done without Patrick Henry,” Thomas Jefferson later wrote. “He was before us all in maintaining the spirit of the Revolution.” As we approach the 250th anniversary of our Nation's Independence on July 4, 2026, we look to Patrick Henry, a son of the frontier, the first and sixth Governor of Virginia, an unflinching advocate for American Independence, and a true man of his moment. Today, we invoke his courage, we honor his legacy, and we fearlessly summon the spirit of 1776 to build a future that we will be proud to impart on our children. Like Patrick Henry and the giants of American liberty who came before us, now is our time to ring that great bell of American freedom and to propel our Nation into a new and radiant golden age.

NOW, THEREFORE, I, DONALD J. TRUMP, President of the United States of America, by virtue of the authority vested in me by the Constitution and the laws of the United States, do hereby proclaim March 23, 2025, as a day in celebration of the 250th anniversary of Patrick Henry's speech to the Second Virginia Convention.

IN WITNESS WHEREOF, I have hereunto set my hand this twentieth day of March, in the year of our Lord two thousand twenty-five, and of the Independence of the United States of America the two hundred and forty-ninth.

[FR Doc. 2025-05150

Filed 3-24-25; 8:45 am]

Billing code 3395-F4-P